OFFICE OF PERSONNEL MANAGEMENT

System of Records; Presidential Management Fellows Program

AGENCY: U.S. Office of Personnel Management (OPM).

ACTION: Notice of amendment to system of records.

SUMMARY: OPM has amended an existing system of records subject to the Privacy Act of 1974 (5 U.S.C. 552a). This action is necessary to meet the requirements of the Privacy Act to publish in the Federal Register notice of the existence and character of system of records maintained by the agency (5 U.S.C. 552a(e)(4)). One category of information is no longer necessary to collect, and two categories of information are being added to the systems notice. In addition, Presidential Management Fellows Program data formerly collected by the Office of Personnel Management Human Resource Solutions will now be collected by a contractor. A routine use was added to permit releases from the system to OPM or other government contractors who need access to the system.

DATES: The amendments to the systems notice will become effective 40 days after the date of publication in the Federal Register unless comments are received that result in further changes to the notice. The system has been operational for 14 years. Comments will be accepted until November 20, 2012.

ADDRESSES: Written comments must be sent to the U.S. Office of Personnel Management, Presidential Management Fellows Program, ATTN: Juanita Wheeler (OPM\Central-11), 1900 E Street NW., Room 6500, Washington, DC 20415 or email PMF@opm.gov.

FOR FURTHER INFORMATION CONTACT: Todd Hewell, (202) 606-1040, fax (202) 606-3040, or email to pmf@opm.gov. Please include your complete mailing address with your request.

SUPPLEMENTARY INFORMATION: This notice serves to update and amend collection and maintenance of OPM\Central-11 (Presidential Management Fellows Program) as a result of new program regulations as well as a change from a government-operated Talent Acquisition System (TAS) to a contractor operated system. The PMF Program authority changed with Executive Order 13562, Recruiting and Hiring Students and Recent Graduates (Presidential Management Fellows Program), signed by President Barack Obama on December 27, 2010. Changes to data collection listed within the categories of records for this system include the following: (1) Elimination of nominations by accredited educational institutions (hence, the elimination of Nominee status for applicants); (2) the added collection of academic transcripts for verification of eligibility; and (3) the collection of Applicant Flow Data in the TAS in accordance with the approved Office of Management and Budget Approval #3046-0046. As part of its effort to revamp the PMF Program, the program office sought to improve the applicant experience and improve the data collection systems by contracting with a private talent acquisition system provider. Pursuant to the contract with OPM, that provider is required to comply with any applicable requirements of the Privacy Act.

In addition, pursuant to the terms of the contract, each contract employee who has access to the PMF system is required to undergo an adjudication of their fitness to have access to work of this nature and to assess their fitness to perform this work, based upon an appropriate background investigation. Beginning in November 2012, data for the Class of 2013 will be collected by the contractor. During the initial six months of operation, the existing OPM Human Resource Services (HRS) operated system in Macon, GA will continue to function in parallel with the new system and will remain the system of record for 2012 and prior Presidential Management Fellows. By March 2013, all data contained in the HRS system in Macon will be migrated to the contractor. A routine use has been added to this systems notice to permit release of records to contractors working on the system pursuant to a contract with OPM or the Federal government.

U.S. Office of Personnel Management.
John Berry,
Director.

OPM\CENTRAL-11

SYSTEM NAME:

Presidential Management Fellows (PMF) Program Records.

SYSTEM LOCATION:

Presidential Management Fellows Program Office, U.S. Office of Personnel Management, 1900 E Street NW., Room 6500, Washington, DC 20415. Electronic records will be stored at contractor facilities located in Ashburn, VA (Primary site) and McLean, VA (Alternate site).

CATEGORIES OF INDIVIDUALS COVERED BY THE SYSTEM:

This system contains records on current and former PMFs; students pursuing or recently completing an advanced degrees, such as a masters or professional degree; as well as contact information for Program stakeholders (e.g., Agency PMF Coordinators, supervisors of PMFs).

CATEGORIES OF RECORDS IN THE SYSTEM:

These records contain information about the covered individuals relating to name, Social Security Number, academic background, home address, telephone numbers, email addresses, employment history, veterans' preference, academic transcripts and other personal information needed during the application, assessment, and selection processes, and as needed for training and development opportunities impacting PMFs and participating agencies. The system will also contain applicant flow data collected in accordance with the Office of Management and Budget Approval #3046-0046. This system will contain confidential evaluation information and assessment scores not available to the public, to applicants, to academic institutions, and to participating Federal Agencies.

AUTHORITY FOR MAINTENANCE OF THE SYSTEM:

Executive Order 13562, signed by President Barack Obama on December 27, 2010.

PURPOSE(S):

These records are used by program personnel for the following reasons:

a. To determine basic program eligibility and to evaluate applicants in a structured assessment process conducted by OPM.

b. To group the interested individuals into various categories (e.g., Candidates, Applicants, Eligibles, Ineligibles, Semi-Finalists, Finalists, Non-Selectees, Fellows, Former Fellows, and Alumni) and make a final determination as to those applicants who will be referred (as Finalists to become Fellows) to participating Federal Agencies for employment consideration.

c. For program evaluation functions to determine the effectiveness of the program and to improve program operations.

d. To facilitate interaction and communication between PMF Program participants and alumni.

e. To track PMF appointments, certifications, conversions, reappointments, withdrawals, resignations, extensions, and waivers.

f. To track agency reimbursements for PMF appointments.

g. To schedule and track PMF participation in Program-sponsored training and development events (e.g., orientation, forums, graduation).

h. To track contact information of Applicants (at all stages), Agency PMF Coordinators, PMF supervisors, Pathways Program Officers, and other relevant stakeholders.

ROUTINE USES OF RECORDS MAINTAINED IN THE SYSTEM, INCLUDING CATEGORIES OF USERS AND THE PURPOSES OF SUCH USES:

These records and information in these records may be used:

1. To refer pertinent information to the appropriate Federal, State or local agency responsible for investigating, prosecuting, enforcing or implementing a statute, rule, regulation or order when there is an indication of a violation or potential violation of civil or criminal law or regulation.

2. To provide information to a congressional office from the record of an individual in response to an inquiry from the congressional office made at the request of the individual.

3. To disclose information to another Federal Agency, a Court, or a party in litigation before a court or in an administrative proceeding being conducted by a Federal Agency, when the Government is a party to the judicial or administrative proceeding. In those cases where the Government is not a party to the proceeding, records may be disclosed if a subpoena has been signed by a judge.

4. To disclose information to the U.S. Department of Justice or in a proceeding before a court, adjudicative body or other administrative body before which OPM is authorized to appear, when:

a. OPM, or any component thereof; or

b. Any employee of OPM in his or her official capacity; or

c. Any employee of OPM in his or her individual capacity where the Department of Justice or OPM has agreed to represent the employee; or

d. The United States, when OPM determines that litigation is likely to affect OPM or any of its components, is a party to litigation or has an interest in such litigation, and the use of such records by the Department of Justice or OPM is deemed by OPM to be relevant and necessary to the litigation provided, however, that the disclosure is compatible with the purpose for which records were collected.

5. To disclose information to officials of the Merit Systems Protection Board or the Office of the Special Counsel, when requested in connection with appeals, special studies of the civil service and other merit systems, review of OPM rules and regulations, investigations of alleged or possible prohibited personnel practices, and such other functions, e.g., as prescribed in 5 U.S.C. 1205 and 1206, or as may be authorized by law.

6. To disclose information to the Equal Employment Opportunity Commission, when requested, in connection with investigations into alleged or possible discrimination practices in the Federal sector, examination of Federal affirmative employment programs, compliance by Federal Agencies with the Uniform Guidelines on Employee Selection Procedures, or other functions vested in the Commission.

7. To disclose information to the Federal Labor Relations Authority or its General Counsel, when requested, in connection with investigations of allegations of unfair labor practices or matters before the Federal Service Impasses Panel.

8. To refer candidates to Federal Agencies for employment consideration.

9. To refer candidates to State and local governments, congressional offices, international organizations, and other public offices, with permission of the candidates, for the purpose of employment consideration and developmental opportunities.

10. To refer Fellows for consideration for reassignment, reappointment, and/or promotion within the employing Federal Agencies.

11. As a data source for management information of summary descriptive statistics and analytical studies in support of the function for which the records are collected and maintained, or for related personnel research functions or manpower studies, or to locate individuals for personnel research.

12. To request information from a Federal, State, or local agency maintaining civil, criminal or other information relevant to an agency decision concerning the hiring or retention of a candidate.

13. To provide an academic institution with information on a recent graduate's participation in the PMF Program, covering application, selection and appointment to a Federal position at a certain grade level, and graduation (completion of the PMF Program).

14. To disclose information to contractors performing or working on a contract on behalf of OPM, or job for the Federal Government.

POLICIES AND PRACTICES OF STORING, RETRIEVING, SAFEGUARDING, RETAINING AND DISPOSING OF RECORDS IN THE SYSTEM:

STORAGE:

All data stored within the contractor hosting and backup facilities is encrypted utilizing data at rest encryption technologies. A complete data backup is stored on a weekly basis and is then replicated to a physically separate datacenter location and kept for the duration of the retention period.

Paper copies of the scoring for the in-person assessments are maintained in lockable metal file cabinets or in a secured office suite at OPM Headquarters, 1900 E Street NW., Washington, DC and in computerized systems accessible to only those program staff whose official duties necessitate such access. Up until electronic records are migrated to the contractor system, OPM computerized systems adhere to current information technology and security policies and requirements and include confidential passwords for access to these automated records.

RETRIEVABILITY:

These records are indexed by name of applicants, maiden name (if applicable), graduate schools, State of residence, Social Security Number, professional/graduate/undergraduate degree, veterans' preference, status in PMF Program (e.g., Candidate, Applicant, Eligible, Ineligible, Semi-Finalist, Finalist, Non-Selectee, Fellow, Former Fellow, and Alumni), citizenship, foreign language(s), geographic employment preference(s), skill sets/competencies, and any combination of these.

SAFEGUARDS:

Proper safeguards are in place within both the primary and alternate hosting facilities. Each facility leverages security equipment, techniques, and procedures to control, monitor, and record access to the facility, including customer cage areas. Data centers are staffed at all times, i.e., even during the night, on weekends, and on holidays. All perimeter doors have biometric with card access readers. Each door is also equipped with sensors to alert security staff of forced entries and is monitored by closed-circuit television. Records are maintained in a secured space and in computerized systems accessible to only those program staff whose official duties necessitate such access. Confidential passwords are required for access to these automated records. Computerized systems adhere to current information technology and security policies and requirements. All contractor personnel with a need to access data records in this system will undergo a background security investigation prior to being granted access. All of that provider's officials having access to the PMF system will undergo an adjudication, pursuant to the terms of the contract, of their fitness to have access to work of this nature and to assess their fitness to perform this work, based upon an appropriate background investigation. In addition, contractor personnel are required by the terms of the contract to adhere to relevant provisions of the Privacy Act.

RETENTION AND DISPOSAL:

Application files are maintained for a maximum of three (3) years; the automated data base of PMF participant information will be destroyed when no longer needed for administrative purposes.

The PMF Program Office maintains a database system tracking all applicant history and program status from 1997 to the present. All hardcopies are maintained in lockable filing cabinets and are archived in accordance with OPM's Records Management Handbook and records retention schedules.

Media Sanitization and Disposal

The contractor has adopted and implemented policies and procedures to address removal of confidential information including protected data from electronic media before the media are made available for re-use, and final disposition of confidential information including protected data and/or the hardware or media on which it is stored. Destruction is done on-site through specialized services.

SYSTEM MANAGER(S) AND ADDRESS:

Presidential Management Fellows Program Office, Attn: Rob Timmins, U.S. Office of Personnel Management, 1900 E Street NW., Room 6500, Washington, DC 20415, Office (202) 606-1040, Fax (202) 606-3040, Email pmf@opm.gov.

NOTIFICATION PROCEDURE:

Individuals wishing to inquire whether this system contains information about them should contact the system manager. You must furnish the following information for your records to be located and identified:

a. Full Name at Time of Application

b. Maiden Name (if applicable)

c. Home Address referenced at Time of Application

d. Advanced Academic Degree referenced at Time of Application

e. Year Applied to Program

RECORD ACCESS PROCEDURE:

Specific materials in this system have been exempted from Privacy Act provisions at 5 U.S.C. 552a(d), regarding access to and amendment of records. The section of the notice, titled Systems Exempted from Certain Provisions of the Act, indicates the kinds of materials exempted and the reasons for exempting them from access.

Current or former applicants who wish to gain access to their non-exempt records should direct such a request in writing to the system manager. You must furnish the following information for your records to be located and identified.

a. Full Name at Time of Application

b. Maiden Name (if applicable)

c. Home Address referenced at Time of Application

d. Advanced Academic Degree referenced at Time of Application

e. Year Applied to Program

Individuals must also comply with OPM's Privacy Act regulations regarding verification of identity and access to records (5 CFR 297).

CONTESTING RECORD PROCEDURE:

Specific material in this system has been exempted from Privacy act provisions at 5 U.S.C. 552a(d), regarding access to and amendment of records. The section of the notice titled Systems Exempted from Certain Provisions of the Act, indicates the kinds of materials exempted and the reasons for exempting them from amendment.

Current or applicants wishing to request amendment of their non-exempt records should contact the OPM PMF system manager. You must furnish the following information for your records to be located and identified:

a. Full Name at Time of Application

b. Maiden Name (if applicable)

c. Home Address referenced at Time of Application

d. Advanced Academic Degree referenced at Time of Application

e. Year Applied to Program

Individuals must also comply with OPM's Privacy Act regulations regarding verification of identity and amendment of records (5 CFR 297).

RECORD SOURCE CATEGORIES:

Information in this system of records is obtained from:

a. The individual to whom it applies;

b. Colleges and Universities;

c. Federal officials involved in the screening and selection process;

d. Employing Federal Agencies.

SYSTEM EXEMPTED FROM CERTAIN PROVISIONS OF THE ACT:

This system contains testing and examination materials that are used solely to determine individual qualifications for appointment or promotion in the Federal service. The Privacy Act at 5 U.S.C. 552a(k)(6), permits an agency to exempt all such testing or examination material and information from certain provisions of the Act when disclosure of the material would compromise the objectivity or fairness of the testing or examination process. OPM has claimed exemptions from the requirements of 5 U.S.C. 552a(d), which relate to access to and amendment of records, for any such testing or examination materials in the system.

[FR Doc. 2012-25030 Filed 10-10-12; 8:45 am]

BILLING CODE 6325-39-P